DEPARTMENT OF HEALTH AND HUMAN SERVICES

Centers for Medicare & Medicaid Services

Privacy Act of 1974; Computer Matching Program (Match No. 2001-01)

AGENCY: Department of Health and Human Services (HHS), Centers for Medicare & Medicaid Services (CMS) (formerly the Health Care Financing Administration).

ACTION: Notice of Computer Matching Program.

SUMMARY: In accordance with the requirements of the Privacy Act of 1974, as amended, this notice announces the establishment of a computer matching program that CMS plans to conduct with the Social Security Administration (SSA). We have provided background information about the proposed matching program in the “Supplementary Information” section below. Although the Privacy Act requires only that CMS provide an opportunity for interested persons to comment on the proposed matching program, CMS invites comments on all portions of this notice. See EFFECTIVE DATES section below for comment period.

EFFECTIVE DATES: CMS filed a report of the Computer Matching Program with the Chair of the House Committee on Government Reform and Oversight, the Chair of the Senate Committee on Governmental Affairs, and the Administrator, Office of Information and Regulatory Affairs, Office of Management and Budget (OMB) on October 16, 2001. We will not disclose any information under a matching agreement until 40 days after filing a report to OMB and Congress or 30 days after publication. We may defer implementation of this matching program if we receive comments that persuade us to defer implementation.

ADDRESSES: The public should address comments to: Director, Division of Data Liaison and Distribution), Enterprise Databases Group, Office of Information Services, CMS, Mailstop N2-04-27, 7500 Security Boulevard, Baltimore, Maryland 21244-1850. Comments received will be available for review at this location, by appointment, during regular business hours, Monday through Friday from 9 a.m.-3 p.m., eastern daylight time.

FOR FURTHER INFORMATION CONTACT: Robin Dalton, Health Insurance Specialist, Division of Data Liaison and Distribution, Enterprise Databases Group, Office of Information Services, CMS, Mailstop N2-04-27, 7500 Security Boulevard, Baltimore, Maryland 21244-1850. The telephone number is (410) 786-0184, or facsimile (410) 786-5636.

SUPPLEMENTARY INFORMATION:

I. Description of the Matching Program

A. General

The Computer Matching and Privacy Protection Act of 1988 (Public Law(Pub. L.) 100-503), amended the Privacy Act (5 U.S.C. 552a) by describing the manner in which computer matching involving Federal agencies could be performed and adding certain protections for individuals applying for and receiving Federal benefits.

Section 7201 of the Omnibus Budget Reconciliation Act of 1990 (Pub. L. 100-508) further amended the Privacy Act regarding protections for such individuals. The Privacy Act, as amended, regulates the use of computer matching by Federal agencies when records in a system of records are matched with other Federal, state, or local government records. It requires Federal agencies involved in computer matching programs to:

1. Negotiate written agreements with the other agencies participating in the matching programs;

2. Obtain the Data Integrity Board's approval of the match agreements;

3. Furnish detailed reports about matching programs to Congress and OMB;

4. Notify applicants and beneficiaries that the records are subject to matching; and

5. Verify match findings before reducing, suspending, terminating, or denying an individual's benefits or payments.

B. CMS Computer Matches Subject to the Privacy Act

CMS has taken action to ensure that all of the computer match programs that this Agency participates in comply with the requirements of the Privacy Act of 1974, as amended.

Thomas A. Scully,
Administrator.

Computer Match No. 2001-01

Name:

Medicare Beneficiary Identification and Non-utilization Information on Social Security Recipients.

Security Classification:

Level Three Privacy Act Sensitive.

Participating Agencies:

The Centers for Medicare & Medicaid Services (CMS); and the Social Security Administration (SSA).

Authority for Conducting Matching Program:

This Computer Matching Agreement is executed to comply with the Privacy Act of 1974 (5 U.S.C. 552a), as amended the Office of Management and Budget (OMB) Circular A-130, titled “Management of Federal Information Resources” (61 FR 6435, February 20, 1996), and OMB guidelines pertaining to computer matching (54 FR 25818, June 19, 1989).

This agreement implements the information matching provisions of sections 202 and 205 of the Social Security Act (Title 42 U.S.C. 402 and 405 (c)).

Purpose(s) of the Matching Program:

The purpose of this agreement is to establish the conditions, safeguards, and procedures under which CMS will periodically disclose the identity of Medicare enrollees whose records have been inactive for a specific period of time (not to be less than 1 year). SSA will use the selected data as an indicator of cases that should be reviewed in order to determine continued eligibility to SSA-administered programs. Cases may be selected for review directly from the match of non-utilization of Medicare or may be used as a factor in a system to prioritize reviews. SSA's Office of Inspector General (OIG) will investigate individual cases alleging fraud, waste, and/or abuse referred to the OIG.

Categories of Records and Individuals Covered by the Match:

SSA will furnish CMS with an electronic file containing Title II Claim Account Number and Title II Beneficiary Identification Code and any other information needed to accurately match the records. CMS will match the SSA file against its “Enrollment Database” system of records (formerly known as the Health Insurance Master Record), system No. 09-70-0502, and will disclose information on non-utilization of Medicare benefits by SSA recipients.

Inclusive Dates of the Match:

The Computer Matching Program shall become effective no sooner than 40 days after the report of the matching program is sent to OMB and Congress, or 30 days after publication in the Federal Register, whichever is later. The matching program will continue for 18 months from the effective date and may be extended for an additional 12 months thereafter, if certain conditions are met.

[FR Doc. 01-26491 Filed 10-19-01; 8:45 am]

BILLING CODE 4120-03-P